SECURITIES AND EXCHANGE COMMISSION

Sunshine Act Meeting

Notice is hereby given, pursuant to the provisions of the Government in the Sunshine Act, Public Law 94-409, that the Commission will host the SEC-NYU Dialogue on Securities Markets—Securities Crowdfunding in the U.S. on Tuesday, February 28, 2017 beginning at 8:30 a.m., in the Auditorium, Room L-002.

The event will include welcome remarks by SEC Acting Chairman Michael Piwowar, concluding remarks by SEC Commissioner Kara Stein and panel discussions that Commissioners may attend. The panel discussions will explore the economic rationale and legal framework for securities crowdfunding, investor protection and capital formation in securities crowdfunding and empirical evidence and data on securities crowdfunding. This Sunshine Act notice is being issued because a majority of the Commission may attend the meeting.

For further information, please contact Brent J. Fields from the Office of the Secretary at (202) 551-5400.

Dated: February 21, 2017.
Eduardo A. Aleman,
Assistant Secretary.

[FR Doc. 2017-03732 Filed 2-22-17; 11:15 am]

BILLING CODE 8011-01-P